DEPARTMENT OF TRANSPORTATION

Federal Highway Administration

Notice of Final Federal Agency Actions on Proposed Highway in North Carolina

AGENCY: Federal Highway Administration (FHWA), DOT.

ACTION: Notice of limitation on claims for judicial review of actions by FHWA, the U.S. Army Corps of Engineers (USACE), and other Federal agencies.

SUMMARY: This notice announces actions taken by the USACE that are final within the meaning of 23 U.S.C. 139 (I)(1). The actions relate to a proposed highway project, Fayetteville Outer Loop, from I-95 south of Fayetteville to U.S. 401 (Ramsey Street) in Fayetteville, North Carolina, Cumberland and Robeson Counties, North Carolina. Those actions grant a permit and approvals for the project.

DATES: By this notice, the FHWA is advising the public of final agency actions subject to 23 U.S.C. 139(I)(1). A claim seeking judicial review of the Federal agency actions on the highway project will be barred unless the claim is filled on or before September 8, 2009. If the Federal law that authorizes judicial review of a claim provides a time period of less than 180 days for filing such claim, then that shorter time period applies.

FOR FURTHER INFORMATION CONTACT: Clarence W. Coleman, P.E., Operations Engineer, Federal Highway Administration, 310 New Bern Avenue, Suite 410, Raleigh, North Carolina 27601-1418; Telephone: (919) 747-7014; e-mail: clarence.coleman@dot.gov. FHWA North Carolina Division Office's normal business hours are 8 a.m. to 5 p.m. (Eastern Time). You may contact Richard K. Spencer, Regulatory Project Manager, United States Army Corps of Engineers, Regulatory Branch, 69 Darlington Avenue, Wilmington, NC 28403; Telephone (910) 251-4172; e-mail: richard.k.spencer@usace.army.mil. United States Army Corps of Engineers' normal business hours are 8 a.m. to 5 p.m. (Eastern Time). You may also contact Gregory J. Thorpe, Ph.D., Project Development and Environmental Analysis Branch Manager, North Carolina Department of Transportation (NCDOT), 1 South Wilmington Street (Delivery), 1548 Mail Service Center, Raleigh, North Carolina 27699-1548; Telephone (919) 733-3141; e-mail gthorpe@ncdot.gov. NCDOT—Project Development and Environmental Analysis Branch Office's normal business hours are 8 a.m. to 5 p.m. (Eastern Time).

SUPPLEMENTARY INFORMATION: On October 5, 2006, the FHWA published a “Notice of Final Federal Agency Actions on Proposed Highway in North Carolina” in the Federal Register at Volume 71, Number 193 for the following project: Fayetteville Outer Loop, Federal Aid No. DPR-0100(001) and DPR-0100(002), from I-95 south of Fayetteville to U.S. 401 (Ramsey Street) in Fayetteville, North Carolina, Cumberland and Robeson Counties, North Carolina. The project will be a 28-mile long, four-lane divided controlled-access freeway on new alignment. The project extends westward from the end of I-295 along the southern boundary of Fort Bragg Military Reservation/northern municipal limits of the City of Fayetteville then turns southward along the western limits of the City of Fayetteville and the Town of Hope Mills until it connects with I-95. A Final Environmental Impact Statement (FEIS) for the project was approved on August 17, 2005; the FHWA Record of Decision (ROD) was issued on January 19, 2006. Notice is hereby given that, subsequent to the earlier FHWA ROD, the USACE has taken final agency actions within the meaning of 23 U.S.C. 139(I)1 by issuing permits and approvals for the highway project. The actions by the USACE are described in the USACE decisions and its project records, referenced as SAW-200801413. The permit and decision document is available by contacting NCDOT at the address above.

Information about the project and project records also are available from FHWA and NCDOT at the addresses provided above. The FHWA FEIS and ROD can be viewed at the NCDOT—Project Development and Environmental Analysis Branch, 1 South Wilmington Street, Raleigh, North Carolina; NCDOT—Division 6 Construction Engineer Office, 558 Gillespie Street, Fayetteville, North Carolina and Fayetteville MPO Office, 130 Gillespie Street, 2nd Floor, Fayetteville, North Carolina.

This notice applies to all USACE decisions taken after January 19, 2006, the issuance date of the FHWA ROD, described above. The laws under which actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Anadromous Fish Conservation Act [16 U.S.C. 757(a)-757(g)], Fish and Wildlife Coordination Act [16 U.S.C. 661-667(d)], Migratory Bird Treaty Act [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Land and Water Conservation Fund (LWCF) [16 U.S.C. 4601-4604]; Safe Drinking Water Act (SDWA) [42 U.S.C. 300(f)-300(j)(6)]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(I)(1)

Issued on: March 6, 2009.
Clarence W. Coleman,
Director of Preconstruction and Environment, Raleigh, North Carolina.

[FR Doc. E9-5352 Filed 3-11-09; 8:45 am]

BILLING CODE 4910-RY-P